DEPARTMENT OF ENERGY

Environmental Management Site-Specific Advisory Board, Hanford

AGENCY: Department of Energy.

ACTION: Notice of open meeting.

SUMMARY: This notice announces a meeting of the Environmental Management Site-Specific Advisory Board (EM SSAB), Hanford. The Federal Advisory Committee Act (Pub. L. 92-463, 86 Stat. 770) requires that public notice of this meeting be announced in the Federal Register.

DATES: Thursday, December 5, 2002, 9 a.m.-5 p.m.; Friday, December 6, 2002, 8:30 a.m.-4 p.m.

ADDRESSES: Radisson Hotel-Portland, 1441 N.E Second Avenue, Portland, OR, Phone: (503) 244-2401, Fax: (503) 233-0498.

FOR FURTHER INFORMATION CONTACT: Yvonne Sherman, Public Involvement Program Manager, Department of Energy Richland Operations Office, 825 Jadwin, MSIN A7-75, Richland, WA 99352; Phone: (509) 376-6216; Fax: (509) 376-1563.

SUPPLEMENTARY INFORMATION: Purpose of the Board: The purpose of the Board is to make recommendations to DOE and its regulators in the areas of environmental restoration, waste management, and related activities.

Tentative Agenda

Thursday, December 5, 2002

• Groundwater Protection Program

—Overview of the Hanford Groundwater Strategy

—Key Activities from the Master Schedule

—Systems Assessment Capability

• Long-Term Stewardship: Hanford Plan

—Workshop Update

—Draft Advice on the Plan (tentative)

• 116N-1 Trench

—Discussion on Proposed Significant Difference from Record of Decision

—Draft Advice (tentative)

• Public Involvement Process on the B/C Pilot (i.e., final remediation of a reactor area)

—Draft Advice (tentative)

• Public Comment Period

Friday, December 6, 2002

• Board discussion and adoption of draft advice

• Committee Updates

• Discussion of Hanford Advisory Board 2003 Meeting Dates and Locations

• Public Comment Period

Public Participation: The meeting is open to the public. Written statements may be filed with the Board either before or after the meeting. Individuals who wish to make oral statements pertaining to agenda items should contact Yvonne Sherman's office at the address or telephone number listed above. Requests must be received five days prior to the meeting and reasonable provision will be made to include the presentation in the agenda. The Deputy Designated Federal Officer is empowered to conduct the meeting in a fashion that will facilitate the orderly conduct of business. Each individual wishing to make public comment will be provided equal time to present their comments.

Minutes: The minutes of this meeting will be available for public review and copying at the Freedom of Information Public Reading Room, 1E-190, Forrestal Building, 1000 Independence Avenue, SW., Washington, DC 20585 between 9 a.m. and 4 p.m., Monday-Friday, except Federal holidays. Minutes will also be available by writing to Yvonne Sherman, Department of Energy Richland Operations Office, 825 Jadwin, MSIN A7-75, Richland, WA 99352, or by calling her at (509) 376-1563.

Issued at Washington, DC, on November 5, 2002.
Rachel M. Samuel,
Deputy Advisory Committee Management Officer.

[FR Doc. 02-28468 Filed 11-7-02; 8:45 am]

BILLING CODE 6450-01-P